DEPARTMENT OF ENERGY

Federal Energy Regulatory Commission

Sunshine Act Meeting

October 4, 2000.

The following notice of meeting is published pursuant to section 3(a) of the government in the Sunshine Act (Pub. L. No. 94-409), 5 U.S.C 552B:

AGENCY HOLDING MEETING: Federal Energy Regulatory Commission

DATE AND TIME: October 11, 2000, 10 a.m.

PLACE: Room 2C 888 First Street, N.E., Washington, D.C. 20426.

STATUS: Open.

MATTERS TO BE CONSIDERED: Agenda.

Note: Items listed on the agenda may be deleted without further notice.

CONTACT PERSON FOR MORE INFORMATION: David P. Boergers, Secretary, Telephone (202) 208-0400. For a recording listing items stricken from or added to the meeting, call (202) 208-1627.

This is a list of matters to be considered by the Commission. It does not include a listing of all papers relevant to the items on the agenda; however, all public documents may be examined in the Reference and Information Center.

749th—Meeting October 11, 2000, Regular Meeting (10 a.m.)

Consent Agenda—Markets, Tariffs and Rates—Electric

CAE-1.

Docket# ER00-3322, 000, Delmarva Power & Light Company, Conectiv Delmarva Generation, INC., Atlantic City Electric Company, Conectiv Atlantic Generation, LLC and Conectiv Energy Supply, Inc.

Other#s ER00-1770, 001, Delmarva Power & Light Company, Conectiv Delmarva Generation, Inc., Atlantic City Electric Company, Conectiv Atlantic Generation, LLC and Conectiv Energy Supply, Inc.

ER00-3322, 001, Delmarva Power & Light Company, Conectiv Delmarva Generation, Inc., Atlantic City Electric Company, Conectiv Atlantic Generation, LLC and Conectiv Energy Supply, Inc.

CAE-2.

Docket# ER00-3412, 000, Ameren Energy Generating Company

CAE-3.

Docket# ER00-3435, 000, Carolina Power & Light Company

CAE-4.

Docket# ER00-3434, 000, Commonwealth Edison Company and Commonwealth Edison Company of Indiana

CAE-5.

Docket# ER00-3462, 000, New York Independent System Operator, Inc.

CAE-6.

Omitted

CAE-7.

Omitted

CAE-8.

Docket# ER99-3196, 000, Northeast Utilities Service Company

Other#s ER99-3196, 001, Northeast Utilities Service Company

CAE-9.

Docket# ER99-4415, 000, Illinois Power Company

Other#s ER99-4415, 001, Illinois Power Company

ER99-4415, 002, Illinois Power Company

ER99-4415, 003, Illinois Power Company

ER99-4530, 000, Illinois Power Company

ER99-4530, 001, Illinois Power Company

ER99-4530, 002, Illinois Power Company

ER99-4530, 003, Illinois Power Company

EL00-7, 000, Illinois Power Company

EL00-7, 001, Illinois Power Company

EL00-7, 002, Illinois Power Company

EL00-7, 003, Illinois Power Company

CAE-10.

Omitted

CAE-11.

Docket# ER00-851, 000, Pacific Gas and Electric Company

Other#s ER00-851, 001, Pacific Gas and Electric Company

CAE-12.

Docket# EC00-119, 000, New England Power Company

CAE-13.

Docket# EC00-98, 000, Commonwealth Edison Company

Other#s EC00-98, 001, Commonwealth Edison Company

CAE-14.

Omitted

CAE-15.

Omitted

CAE-16.

Docket# ER00-1693, 001, Montana Power Company and PP&L Montana, LLC

CAE-17.

Docket# RM95-9, 014, Open Access Same-Time Information System (Oasis) and Standards of Conduct

Other#s RM95-9, 015, Open Access Same-Time Information System (Oasis) and Standards of Conduct

CAE-18.

Docket# EL00-101, 000, New Horizon Electric Cooperative, Inc. v. Duke Power Company

CAE-19.

Omitted

CAE-20.

Omitted

CAE-21.

Docket# ER00-1, 002, Transenergie U.S. LTD.

Other#s ER00-1, 003, Transenergie U.S. LTD.

CAE-22.

Docket# RM00-7, 000, Revision of Annual Charges Assessed to Public Utilities

CAE-23.

Docket# EL00-62, 005, ISO New England, Inc.

CAE-24.

Docket# EL00-90, 000, Morgan Stanley Capital Group, Inc. v. New York Independent System Operator, Inc.

Consent Agenda—Markets, Tariffs and Rates—Gas

CAG-1.

Docket# RP00-542, 000, ANR Pipeline Company

CAG-2.

Omitted

CAG-3.

Omitted

CAG-4.

Docket# RP96-389, 007, Columbia Gulf Transmission Company

CAG-5.

Docket# RP00-538, 000, Young Gas Storage Company, Ltd.

CAG-6.

Docket# PR00-16, 000, Transok, LLC

CAG-7.

Docket# RP98-52, 038, Williams Gas Pipelines Central, Inc.

CAG-8.

Docket# RP97-375, 000, Wyoming Interstate Company, Ltd.

CAG-9.

Docket# RP93-109, 017, Williams Gas Pipelines Central, Inc.

CAG-10.

Docket# PR00-11, 001, Humble Gas Pipeline Company

CAG-11.

Docket# RP00-540, 000, East Tennessee Natural Gas Company

CAG-12.

Docket# RP00-558, 000, Overthrust Pipeline Company

Consent Agenda—Energy Projects—Hydro

CAH-1.

Docket# P-2556, 016, FPL Energy Maine Hydro LLC

Other#s P-2557, 013, FPL Energy Maine Hydro LLC

P-2559, 014, FPL Energy Maine Hydro LLC

CAH-2.

Omitted

CAH-3.

Docket# P-10847, 003, Creamer and Noble Energy, Inc.

CAH-4.

Docket# P-1986, 009, Oregon Trail Electric Consumers Cooperative, Inc.

Consent Agenda—Energy Projects—Certificates

CAC-1.

Docket# CP00-426, 000, Oneok Midstream Pipeline, Inc.

CAC-2.

Docket# CP97-256, 007, K N Wattenberg Transmission Limited Liability Company

Energy Projects—Hydro Agenda

H-1.

Reserved

Energy Projects—Certificates Agenda

C-1.

Reserved

Markets, Tariffs and Rates—Electric Agenda

E-1.

Docket# RM98-4, 000, Revised Filing Requirements Under Part 33 of the Commission's Regulations

Order on Final Rule.

Markets, Tariffs and Rates—Gas Agenda

G-1.

Reserved

David P. Boergers,
Secretary.

[FR Doc. 00-26038 Filed 10-5-00; 12:52 pm]

BILLING CODE 6717-01-P